DEPARTMENT OF TRANSPORTATION

Federal Aviation Administration

Supplemental Type Certificates ST03718AT, SA03654AT; Original Product Type Certificate Numbers A32NM, T00006LA, A4SW

AGENCY: Federal Aviation Administration (FAA), DOT.

ACTION: Surrendered supplemental type certificate.

SUMMARY: This notice announces that Avenger Aerospace Solutions, Inc. has surrendered its supplement type certificates, ST03718AT and SA03654AT to the FAA. In accordance with policy, the FAA announces surrender of aircraft certificates in the Federal Register.

FOR FURTHER INFORMATION CONTACT: Send correspondence on this issue to: Federal Aviation Administration, Atlanta Aircraft Certification Branch, 1701 Columbia Avenue, College Park, GA 30337. ATTN: John R. Marshall. All letters must be certified and signed. You may also contact John R. Marshall by phone at (404) 474-5524, or electronically at john.r.marshall@faa.gov.

SUPPLEMENTARY INFORMATION: Avenger Aerospace Solutions, Inc. notified the FAA by letter received October 26, 2020, that it is voluntarily surrendering the following supplemental type certificates (STCs):

STC No. | Description of type design change | Associated type certificate No.
ST03718AT | Incorporation of P3A Airworthiness Limitation Section for aircraft operated in Restricted Category for the special mission of aerial dispensing of liquids in accordance with Avenger Aircraft and Services Report No. AAS-MDL-09-002, Revision NC dated April 30, 2009, or later FAA approved revision | A32NM, T00006LA.
SA03654AT | Installation of Avenger Extended Performance Front Spar Enhancement Kit (new wing front spar lower caps, center splice, and doublers) in accordance with Part II of Avenger Master Data List AAS-MDL-08-001, Revision B, dated November 26, 2008, or later FAA approved revision | A4SW.

Issued in Fort Worth, TX, on July 1, 2021.
Ross A. Landes,
Aviation Safety, Acting Director, Compliance and Airworthiness Division, Aircraft Certification Service.

[FR Doc. 2021-14647 Filed 7-8-21; 8:45 am]

BILLING CODE 4910-13-P